COMMITTEE FOR PURCHASE FROM PEOPLE WHO ARE BLIND OR SEVERELY DISABLED

Procurement List; Deletions

AGENCY: Committee for Purchase From People Who Are Blind or Severely Disabled.

ACTION: Deletions from the procurement list.

SUMMARY: This action deletes products and services from the Procurement List previously furnished by nonprofit agencies employing persons who are blind or have other severe disabilities.

DATES: Effective November 20, 2016

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Deletions

On 9/2/2016 (81 FR 60681-60683), 9/9/2016 (81 FR 62481-62482), and 9/16/2016 (81 FR 63744-63745), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

Product Name(s)—NSN(s):

8415-01-519-7867—Jacket, Level 3, PCU, Marine Corps, Brown, L

8415-01-519-7868—Jacket, Level 3, PCU, Marine Corps, Brown, M

8415-01-519-8079—Jacket, Level 3, PCU, Marine Corps, Brown, L-L

8415-01-519-8083—Jacket, Level 3, PCU, Marine Corps, Brown, S

8415-01-519-8084—Jacket, Level 3, PCU, Marine Corps, Brown, XL-L

8415-01-519-8087—Jacket, Level 3, PCU, Marine Corps, Brown, XL

Contracting Activities: Commander, Quantico, VA, Army Contracting Command—Aberdeen Proving Ground, Natick Contracting Division.

8415-01-535-7954—Shirt, Level 3, PCU, Army, Brown, XXL

8415-01-542-8541—Jacket, Lightweight Extreme Cold Weather Insulating Level 3, PCU, Army, Brown, XXLL

8415-01-542-8544—Jacket, Lightweight Extreme Cold Weather Insulating, Level 3, PCU, Army, Brown, S

8415-01-542-8548—Jacket, Lightweight Extreme Cold Weather Insulating, Level 3, PCU, Army, Brown, M

8415-01-542-8551—Jacket, Lightweight Extreme Cold Weather Insulating, Level 3, PCU, Army, Brown, L

8415-01-542-8554—Jacket, Lightweight Extreme Cold Weather Insulating, Level 3, PCU, Army, Brown, L-L

8415-01-542-8557—Jacket, Lightweight Extreme Cold Weather Insulating, Level 3, PCU, Army, Brown, XL-L

8415-01-542-8558—Jacket, Lightweight Extreme Cold Weather Insulating, Level 3, PCU, Army, Brown, XL

8415-01-542-8560—Jacket, Lightweight Extreme Cold Weather Insulating, Level 3, PCU, Army, Brown, XXL

8415-01-542-8561—Jacket, Lightweight Extreme Cold Weather Insulating, Level 3, PCU, Army, Brown, XS

8415-01-543-7040—Jacket, Extreme Cold Weather Level 3, PCU, Army, Brown, M-L

8415-01-544-6756—Jacket, Extreme Cold Weather Level 3, PCU, Army, Brown, XXXL

8415-01-544-6759—Jacket, Extreme Cold Weather Level 3, PCU, Army, Brown, XXXLL

Contracting Activity: Army Contracting Command—Aberdeen Proving Ground, Natick Contracting Division

Mandatory Source(s) of Supply: Unknown

Product Name(s)—NSN(s):

7530-01-354-2327—Envelope, Translucent, 4½ x 11″

7530-01-354-3982—Envelope, Translucent, 4 x 7″

7530-01-354-3983—Envelope, Translucent, 9½ x 11″

Mandatory Source(s) of Supply: Industries for the Blind, Inc., West Allis, WI

Contracting Activity: General Services Administration, New York, NY

Product Name(s)—NSN(s): 6530-01-163-3704—Cup, Specimen

Contracting Activity: Department of Veterans Affairs

Product Name(s)—NSN(s):

6532-00-914-3069—Shirt, Operating, Surgical

6532-00-914-3070—Shirt, Operating, Surgical

6532-00-914-3071—Shirt, Operating, Surgical

Contracting Activity: Defense Logistics Agency Troop Support

Product Name(s)—NSN(s): 7350-01-138-0022—Pitcher, Water

Contracting Activity: Department of Veterans Affairs

NSN(s)—Product Name(s): 7510-00-NIB-0432—Business Card Case, Fold-Up, Rosewood

Mandatory Source(s) of Supply: Tarrant County Association for the Blind, Fort Worth, TX

Contracting Activity: General Services Administration, New York, NY

NSN(s)—Product Name(s):

MR 10468—Set, Saver, Salad

MR 10674—Funnel, Collapsible

MR 10635—Serving Platter, Heavy Duty, Raised Surface, Fall Themed, White

MR 10627—Garden Seed Packets, Assorted, 4PK

MR 10623—Container, Frozen Waffle, Expandable

MR 10618—Stickers, Easter Themed, Assorted, 200ct

MR 10626—Poster Book, Coloring, Assorted, 36 × 42

MR 10609—Bowl, Insulated Thermal, Toddler, 8oz

MR 380—Set, Baking Cups and Picks, Holiday, 24PC

MR 382—Duct Tape, Holiday Themed, Assorted Colors

Mandatory Source(s) of Supply: Winston-Salem Industries for the Blind, Inc., Winston-Salem, NC

Contracting Activity: Defense Commissary Agency

NSN(s)—Product Name(s):

MR 1120—Bag, Storage, Vacuum Sealed, 6PG

MR 365—Serving Set, Stand and Bowl, Halloween Themed, 16oz

MR 371—Serving Set, Stand and Bowl, Holiday Themed, 16oz

MR 1146—Serving Set, Stand and Bowl, 16oz

MR 349—Containers, Storage, 6PG

MR 370—Serving Bowl, Holiday, Plastic 7Qt

MR 373—Chip and Dip Bowl, Holiday, Plastic

MR 301—Silicone Spatula

MR 355—Set, Serving Set, Party Travelling

MR 1183—Set, Mixing Bowl, Melamine, 4PC

MR 1159—Set, Bakeware, Cake Pop

MR 383—Server, Beverage, w Spout, 1.25G

Mandatory Source(s) of Supply: Industries for the Blind, Inc., West Allis, WI

Contracting Activity: Defense Commissary Agency

NSN(s)—Product Name(s):

6515-00-NIB-0770—Gloves, Surgical, Powder-free, OR Classic, White, Size 8″

6515-00-NIB-0771—Gloves, Surgical, Powder-free, OR Classic, White, Size 8.5″

6515-00-NIB-0772—Gloves, Surgical, Powder-free, OR Classic, White, Size 9″

6515-00-NIB-0773—Gloves, Surgical, Powder free, Sensicare Ortho, White, Size 5.5″

6515-00-NIB-0765—Gloves, Surgical, Powder-free, OR Classic, White, Size 5.5″

6515-00-NIB-0766—Gloves, Surgical, Powder-free, OR Classic, White, Size 6″

6515-00-NIB-0767—Gloves, Surgical, Powder-free, OR Classic, White, Size 6.5″

6515-00-NIB-0768—Gloves, Surgical, Powder-free, OR Classic, White, Size 7″

6515-00-NIB-0769—Gloves, Surgical, Powder-free, OR Classic, White, Size 7.5″

6515-00-NIB-0680—Gloves, Surgical, Powder-free, Derma Prene, Isotouch Hydrasoft, Green, Size 8.5″

6515-00-NIB-0681—Gloves, Surgical, Powder-free, Derma Prene, Isotouch Hydrasoft, Green, Size 9″

6515-00-NIB-0674—Gloves, Surgical, Powder-free, Derma Prene, Isotouch Hydrasoft, Green, Size 5.5″

6515-00-NIB-0675—Gloves, Surgical, Powder-free, Derma Prene, Isotouch Hydrasoft, Green, Size 6″

6515-00-NIB-0676—Gloves, Surgical, Powder-free, Derma Prene, Isotouch Hydrasoft, Green, Size 6.5″

6515-00-NIB-0677—Gloves, Surgical, Powder-free, Derma Prene, Isotouch Hydrasoft, Green, Size 7″

6515-00-NIB-0678—Gloves, Surgical, Powder-free, Derma Prene, Isotouch Hydrasoft, Green, Size 7.5″

6515-00-NIB-0679—Gloves, Surgical, Powder-free, Derma Prene, Isotouch Hydrasoft, Green, Size 8″

Mandatory Source(s) of Supply: Bosma Industries for the Blind, Inc., Indianapolis, IN

Contracting Activity: Strategic Acquisition Center, Fredericksburg, VA

NSN(s)—Product Name(s):

6515-00-NIB-8015—Gloves, Exam, Nitrile, Latex-Free, Powder-Free, W/Inner Aloe coating, 5.5 mil (palm), Green, x-Small

Mandatory Source(s) of Supply: Bosma Industries for the Blind, Inc., Indianapolis, IN

Contracting Activity: Department of Veterans Affairs

NSN(s)—Product Name(s):

6515-00-NIB-0531—Glove Powder Free, aloetouch micro

6515-00-NIB-0532—Glove Powder Free, aloetouch micro

6515-00-NIB-0533—Glove Powder Free, aloetouch micro

6515-00-NIB-0534—Glove Powder Free, aloetouch micro

6515-00-NIB-0535—Glove Powder Free, aloetouch micro

6515-00-NIB-0536—Glove Powder Free, aloetouch micro

6515-00-NIB-0537—Glove Powder Free, aloetouch micro

6515-00-NIB-0538—Glove Powder Free, aloetouch micro

6515-00-NIB-0481—Glove Powdered, Perry Orthopaedic

6515-00-NIB-0482—Glove Powdered, Perry Orthopaedic

6515-00-NIB-0483—Glove Powdered, Perry Orthopaedic

6515-00-NIB-0477—Glove Powdered, Perry Orthopaedic

6515-00-NIB-0478—Glove Powdered, Perry Orthopaedic

6515-00-NIB-0479—Glove Powdered, Perry Orthopaedic

6515-00-NIB-0461—Glove Powdered, Original Perry Style 42

6515-00-NIB-0462—Glove Powdered, Original Perry Style 42

6515-00-NIB-0463—Glove Powdered, Original Perry Style 42

6515-00-NIB-0464—Glove Powdered, Original Perry Style 42

6515-00-NIB-0465—Glove Powdered, Original Perry Style 42

6515-00-NIB-0466—Glove Powdered, Original Perry Style 42

6515-00-NIB-0467—Glove Powdered, Original Perry Style 42

6515-00-NIB-0468—Glove Powdered, Original Perry Style 42

6515-00-NIB-0208—Glove, Surgeon, Biogel Neotech, Size 5.5

6515-00-NIB-0209—Glove, Surgeon, Biogel Neotech, Size 6.0

6515-00-NIB-0210—Glove, Surgeon, Biogel Neotech, Size 6.5

6515-00-NIB-0211—Glove, Surgeon, Biogel Neotech, Size 7.0

6515-00-NIB-0212—Glove, Surgeon, Biogel Neotech, Size 7.5

6515-00-NIB-0213—Glove, Surgeon, Biogel Neotech, Size 8.0

6515-00-NIB-0214—Glove, Surgeon, Biogel Neotech, Size 8.5

6515-00-NIB-0215—Glove, Surgeon, Biogel Neotech, Size 9.0

6515-00-NIB-0192—Glove, Surgeon, Biogel Orthopaedic, Size 5.5

Mandatory Source(s) of Supply: Bosma Industries for the Blind, Inc., Indianapolis, IN

Contracting Activity: Department of Veterans Affairs

NSN(s)—Product Name(s):

7220-00-NIB-0143—Safety-Walk, Tapes & Treads—310 Black Medium Resilient

Mandatory Source(s) of Supply: Louisiana Association for the Blind, Shreveport, LA

Contracting Activity: General Services Administration, New York, NY

NSN(s)—Product Name(s):

8030-01-596-4258—Lubricant, 5-in-1 Penetrating Multipurpose oil, Biobased, Aerosol, 11 oz. net.

Mandatory Source(s) of Supply: The Lighthouse for the Blind, St. Louis, MO

Contracting Activity: Defense Logistics Agency Troop Support

Services

Service Type: Administrative/General Support Service

Mandatory for: GSA, Southwest Supply Center, 819 Taylor Street, Fort Worth, TX

Mandatory Source(s) of Supply: Lighthouse for the Blind of Houston, Houston, TX, West Texas Lighthouse for the Blind, San Angelo, TX, South Texas Lighthouse for the Blind, Corpus Christi, TX

Contracting Activity: General Services Administration, FPDS Agency Coordinator

Service Type: Administrative/General Support Service

Mandatory for: GSA, Northeast Distribution Center, Federal Supply Service (3FS), Burlington, NJ

Mandatory Source(s) of Supply: Bestwork Industries for the Blind, Inc., Cherry Hill, NJ

Contracting Activity: General Services Administration, FPDS Agency Coordinator

Service Type: Administrative/General Support Service

Mandatory for: GSA, Southwest Supply Center, 819 Taylor Street, Fort Worth, TX

Mandatory Source(s) of Supply: Travis Association for the Blind, Austin, TX

Contracting Activity: General Services Administration, FPDS Agency Coordinator

Service Type: Medical Transcription Service

Mandatory for: Veterans Affairs Medical Center, 150 S. Huntington Avenue, Boston, MA

Mandatory Source(s) of Supply: Massachusetts Commission for the Blind Ferguson Industries for the Blind (Deleted), Malden, MA

Contracting Activity: Department of Veterans Affairs

Service Type: Electronic Service Customer Representative Service

Mandatory for: Securities & Exchange Commission Library, 2100 2nd St. SW., Rm. 110, Washington, DC

Mandatory Source(s) of Supply: Columbia Lighthouse for the Blind, Washington, DC

Contracting Activity: Securities and Exchange Commission

Service Type: Fulfillment Service

Mandatory for: Veterans Affairs Blind Rehabilitation Center, 1 Freedom Way, Augusta, GA

Mandatory Source(s) of Supply: Columbia Lighthouse for the Blind, Washington, DC

Contracting Activity: Department of Veterans Affairs

Service Type: Administrative/General Support Service

Mandatory for: Office of Personnel Management: Inspector General Office, 1900 E Street NW., Washington, DC

Mandatory Source(s) of Supply: Columbia Lighthouse for the Blind, Washington, DC

Contracting Activity: Office of Personnel Management

Service Type: Employment Placement Service

Mandatory for: Defense Logistics Agency: National Human Resource Offices, 8725 John J Kingman Rd #2545, Fort Belvoir, VA

Mandatory Source(s) of Supply: Columbia Lighthouse for the Blind, Washington, DC

Contracting Activity: Defense Logistics Agency Aviation

Service Type: Duplicating Service

Mandatory for: U.S. Army Corps of Engineers, 10 S Howard St, Baltimore, MD

Mandatory Source(s) of Supply: North Central Sight Services, Inc., Williamsport, PA

Contracting Activity: Dept of the Army, W40M NORTHEREGION Contract Ofc

Service Type: Administrative Service

Mandatory for: General Services Administration, 100 Penn Square East, Philadelphia, PA

Mandatory Source(s) of Supply: Center for the Blind and Visually Impaired, Chester, PA

Contracting Activity: General Services Administration, FPDS Agency Coordinator

Service Type: Administrative/General Support Service

Mandatory for: GSA, Southwest Supply Center, 819 Taylor Street, Fort Worth, TX

Mandatory Source(s) of Supply: NewView Oklahoma, Inc., Oklahoma City, OK

Contracting Activity: General Services Administration, FPDS Agency Coordinator

Service Type: Customer Service Representatives

Mandatory for: GSA, Philadelphia Region 3: Federal Supply Service Bureau, Philadelphia, PA

Mandatory Source(s) of Supply: Center for the Blind and Visually Impaired, Chester, PA

Contracting Activity: General Services Administration, FPDS Agency Coordinator

Service Type: Parts Machining Service

Mandatory for: Mare Island Naval Shipyard, Vallejo, CA

Mandatory Source(s) of Supply: West Texas Lighthouse for the Blind, San Angelo, TX

Contracting Activity: DOD/DEPARTMENT OF THE NAVY

Service Type: Medical Transcription Service

Mandatory for: Patuxent River Naval Air Station: U.S. Naval Hospital, 47149 Buse Road, Unit 1370, Patuxent River, MD

Mandatory Source(s) of Supply: Lighthouse for the Blind of Houston, Houston, TX

Contracting Activity: DOD/DEPARTMENT OF THE NAVY

Service Type: Order Processing Service

Mandatory for: Federal Prison Industries, Lexington, KY

Mandatory Source(s) of Supply: Clovernook Center for the Blind and Visually Impaired, Cincinnati, OH

Contracting Activity: Federal Prison System, Central Office

Service Type: Photocopying Service

Mandatory for: James E. Van Zandt Veterans Affairs Medical Center, 2907 Pleasant Valley Blvd., Altoona, PA

Mandatory Source(s) of Supply: North Central Sight Services, Inc., Williamsport, PA

Contracting Activity: Department of Veterans Affairs

Service Type: HTML Coding of Forest Health Monitoring Service

Mandatory for: USDA, Forest Service, North Central Forest Experiment Station, St. Paul, MN

Mandatory Source(s) of Supply: North Central Sight Services, Inc., Williamsport, PA

Contracting Activity: Dept of Agriculture, Procurement Operations Division

Service Type: Duplicating Service

Mandatory for: U.S. Army Corps of Engineers, 100 Liberty Avenue, Pittsburgh, PA

Mandatory Source(s) of Supply: North Central Sight Services, Inc., Williamsport, PA

Contracting Activity: Dept of the Army, W40M NORTHEREGION Contract Ofc

Barry S. Lineback,
Director, Business Operations.

[FR Doc. 2016-25531 Filed 10-20-16; 8:45 am]

BILLING CODE 6353-01-P